DEPARTMENT OF ENERGY

Notice of Orders Issued Under Section 3 of the Natural Gas Act During September 2019

| FE Docket Nos.
GABZA INTERNATIONAL GAS INC.) | 19-93-LNG
TIDAL ENERGY MARKETING (U.S.) L.L.C | 19-88-NG
TRANSALTA ENERGY MARKETING, (U.S.) INC | 19-82-NG
PENTAGON ENERGY, LLC | 19-97-CNG
CENOVUS ENERGY MARKETING LIMITED | 19-94-NG
SAN DIEGO GAS & ELECTRIC COMPANY | 19-98-NG
JUST ENERGY NEW YORK CORP | 19-96-NG
VALENCE NATURAL GAS SOLUTIONS LLC | 19-70-CNG
EDF TRADING NORTH AMERICA, LLC | 19-100-NG
BORDER ENERGY MANAGEMENT LLC | 19-102-NG
MINNESOTA ENERGY RESOURCES CORPORATION) | 19-106-NG
PACIFIC GAS AND ELECTRIC COMPANY | 19-103-NG
ALTAGAS LTD | 19-83-NG
PIONEER LNG, LLC | 19-87-NG
UNITED ENERGY TRADING CANADA, ULC | 19-108-NG
WISCONSIN GAS LLC | 19-111-NG
WISCONSIN ELECTRIC POWER COMPANY | 19-110-NG
TENASKA MARKETING VENTURES | 19-109-NG
CITY OF PORTAL, INCORPORATED | 19-101-NG
DTE ENERGY TRADING, INC | 19-107-NG
SOCIETE GENERALE ENERGY LLC | 19-22-NG

AGENCY: Office of Fossil Energy, Department of Energy.

ACTION: Notice of orders.

SUMMARY: The Office of Fossil Energy (FE) of the Department of Energy gives notice that during September 2019, it issued orders granting authority to import and export natural gas, to import and export liquefied natural gas (LNG), to import and export compressed natural gas (CNG), and vacating authorization. These orders are summarized in the attached appendix and may be found on the FE website at https://www.energy.gov/fe/listing-doefe-authorizationsorders-issued-2019.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Signed in Washington, DC, on October 18, 2019.
Amy Sweeney,
Director, Office of Regulation, Analysis, and Engagement, Office of Oil and Natural Gas.

Appendix

DOE/FE Orders Granting Import/Export Authorizations
4423 | 09/03/19 | 19-93-LNG | Gabza International Gas Inc | Order 4423 granting blanket authority to export LNG to Mexico by truck.
4426 | 09/03/19 | 19-88-NG | Tidal Energy Marketing (U.S.) L.L.C | Order 4426 granting blanket authority to import/export natural gas from/to Canada.
4427 | 09/03/19 | 19-82-NG | TransAlta Energy Marketing (U.S.) Inc | Order 4427 granting blanket authority to import/export natural gas from/to Canada.
4428 | 09/03/19 | 19-97-CNG | Pentagon Energy, LLC | Order 4428 granting blanket authority to export CNG to Mexico by vessel/truck.
4429 | 09/03/19 | 19-94-NG | Cenovus Energy Marketing Limited | Order 4429 granting blanket authority to import natural gas from Canada.
4430 | 09/03/19 | 19-98-NG | San Diego Gas & Electric Company | Order 4430 granting blanket authority to import/export natural gas from/to Mexico.
4431 | 09/03/19 | 19-96-NG | Just Energy New York Corp | Order 4431 granting blanket authority to import/export natural gas from/to Canada.
4432 | 09/03/19 | 19-70-NG | Valence Natural Gas Solutions LLC | Order 4432 granting blanket authority to import/export CNG from/to Canada, and vacating prior authorization, Order 4196.
4433 | 09/03/19 | 19-100-NG | EDF Trading North America, LLC | Order 4433 granting blanket authority to import/export natural gas from/to Canada/Mexico, to import/export LNG from/to Canada/Mexico by truck, to export LNG to Canada/Mexico by vessel, and to import LNG from various international sources by vessel.
4434 | 09/03/19 | 19-102-NG | Border Energy Management LLC | Order 4434 granting blanket authority to export natural gas to Mexico.
4435 | 09/06/19 | 19-106-NG | Minnesota Energy Resources Corporation | Order 4435 granting blanket authority to import/export natural gas from/to Canada.
4436 | 09/09/19 | 19-103-NG | Pacific Gas and Electric Company | Order 4436 granting blanket authority to import natural gas from Canada.
4437 | 09/09/19 | 19-83-NG | AltaGas Ltd. | Order 4437 granting authority to import/export natural gas from/to Canada.
4438 | 09/10/19 | 19-87-NG | Pioneer LNG, LLC | Order 4438 granting blanket authority to import/export natural gas from/to Canada/Mexico.
4439 | 09/30/19 | 19-108-NG | United Energy Trading Canada, ULC | Order 4439 granting blanket authority to import/export natural gas from/to Canada.
4440 | 09/30/19 | 19-111-NG | Wisconsin Gas LLC | Order 4440 granting blanket authority to import/export natural gas from/to Canada.
4441 | 09/30/19 | 19-110-NG | Wisconsin Electric Power Company | Order 4441 granting blanket authority to import/export natural gas from/to Canada.
4442 | 09/30/19 | 19-109-NG | Tenaska Marketing Ventures | Order 4442 granting blanket authority to import/export natural gas from/to Canada/Mexico.
4443 | 09/30/19 | 19-101-NG | City of Portal, Incorporated | Order 4443 granting blanket authority to import natural gas from Canada.
4444 | 09/30/19 | 19-107-NG | DTE Energy Trading, Inc. | Order 4444 granting blanket authority to import/export natural gas from/to Canada.
4350-A | 09/30/19 | 19-22-NG | Societe Generale Energy LLC | Order 4350-A vacating blanket authority to import/export natural gas from/to Canada/Mexico.

[FR Doc. 2019-23326 Filed 10-24-19; 8:45 am]

BILLING CODE 6450-01-P